DEPARTMENT OF HOUSING AND URBAN DEVELOPMENT

[Docket No. FR-5122-N-02]

Notice of Proposed Information Collection: Comment Request Quality Assurance Plans

AGENCY: Office of Healthy Homes and Lead Hazard Control, HUD.

ACTION: Notice.

SUMMARY: The information collection requirement described below will be submitted to the Office of Management and Budget (OMB) for review, as required by the Paperwork Reduction Act. The Department is soliciting public comments on the subject proposal.

DATES: Comments Due Date: June 18, 2007.

ADDRESSES: Interested persons are invited to submit comments regarding this proposal. Comments should refer to the proposal by name and/or OMB Control Number and should be sent to: Katina Jordan, Reports Liaison Officer, Department of Housing and Urban Development, 451 7th Street, SW., Room 8236, Washington, DC 20410.

FOR FURTHER INFORMATION CONTACT: Lillian Deitzer, Reports Management Officer, Q, Department of Housing and Urban Development, 451 Seventh Street, SW., Washington, DC 20410; (202) 708-2374. (This is not a toll-free number. Hearing- or speech-impaired persons may access the number above via TTY by calling the toll-free Federal Information Relay Service at 1-800-877-8339.)

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Office of Healthy Homes and Lead Hazard Control Data Collection-Quality Assurance Plans.

OMB Control Number: N/A.

Description of the need for the information and proposed use: HUD's Office of Healthy Homes and Lead Hazard Control requires its Healthy Homes Demonstration and Technical Studies grantees, Lead Technical Studies grantees, and selected contractors to submit quality assurance plans to the Office for approval before they initiate data collection. This is required because the respondents are conducting research or significant evaluation activities, and quality assurance procedures are required to ensure the accuracy and validity of data. The use of quality assurance plan templates helps to ensure that quality assurance activities are well planned and thorough, and standardizes the formatting of the plans, which aids both HUD staff in their review and the respondents in plan development. The use of different templates for technical studies and demonstration projects was designed to reduce respondent burden by requiring more detailed information for the technical studies (research) projects; consistent with their more rigorous quality assurance requirements.

Agency Form Numbers: N/A.

Members of Affected Public: Academic, not-for-profit and for-profit institutions located in the U.S., state and units of general local government, and federally recognized Native American tribes:

Total Burden Estimate (annual): Number of respondents: 20; Frequency of response: 1; Hours per response: 24; Total Burden Hours: 480.

Status of the Proposed Information Collection: This is a new collection.

Additional Information: The obligation to respond to this information collection is mandatory.

Authority: Section 3506 of the Paperwork Reduction Act of 1995, 44 U.S.C. Chapter 35, as amended.

Dated: April 3, 2007.
Jon L. Gant,
Director, Office of Healthy Homes and Lead Hazard Control.

[FR Doc. 07-1909 Filed 4-16-07; 8:45 am]

BILLING CODE 4210-67-M